DEPARTMENT OF AGRICULTURE

Forest Service

Newspapers To Be Used for Publication of Legal Notice of Appealable Decisions and Publication of Notice of Proposed Actions for Eastern Region: Illinois, Indiana and Ohio, Michigan, Minnesota, Missouri, New Hampshire and Maine, Pennsylvania, Vermont and New York, West Virginia, and Wisconsin

AGENCY: Forest Service, USDA.

ACTION: Notice.

SUMMARY: Deciding Officers in the Eastern Region will publish notice of decisions subject to administrative appeal under 36 CFR parts 215 and 217 in the legal notice section of the newspapers listed in the SUPPLEMENTARY INFORMATION section of this notice. As provided in 36 CFR 215.5(a) and 36 CFR 217.5(d), the public shall be advised through Federal Register notice, of the principal newspaper to be utilized for publishing legal notices of decisions. Newspaper publication of notice of decisions is in addition to direct notice of decisions to those who have requested notice in writing and to those known to be interested in or affected by a special decision. In addition, the Responsible Official in the Eastern Region will also publish notice of proposed actions under 36 CFR part 215 in the newspapers that are listed in the SUPPLEMENTARY INFORMATION section of this notice. As provided in 36 CFR part 215(a), the public shall be advised, through Federal Register notice, of the principal newspapers to be utilized for publishing notices on proposed actions.

DATES: Use of these newspapers for purposes of publishing legal notice of decisions subject to appeal under 36 CFR parts 215 and 217, and notices of proposed actions under 36 CFR part 215 shall begin on or after the date of this publication.

FOR FURTHER INFORMATION CONTACT: Patricial Rowell, Regional Appeals Assistant, Eastern Region, Gaslight Building, 7th Floor, 626 East Wisconsin Avenue, Milwaukee, Wisconsin 53202, Phone: (414) 297-3439.

SUPPLEMENTARY INFORMATION: Deciding Officers in the Eastern Region will give legal notice of decisions subject to appeal under 36 CFR part 217 and 36 CFR part 215 in the following newspapers which are listed by Forest Service administrative unit. The timeframe for comment on a proposed action shall be based on the date of publication of the notice of the proposed action in the principal newspaper. The timeframe for appeals shall be based on the date of publication of the legal notice of the decision in the principal newspaper for both 36 CFR parts 215 and 217.

Where more than one newspaper is listed for any unit, the first newspaper listed is the principal newspaper that will be utilized for publishing the legal notices of decisions. Additional newspapers listed for a particular unit are those newspapers the Deciding Officer expects to use for purposes of providing additional notice. The timeframe for appeal shall be based on the date of publication of the legal notice of the decision in the principal newspaper. The following newspapers will be used to provide notice.

Eastern Region

Regional Forester Decisions: Affecting National Forest System lands in the States of Illinois, Indiana and Ohio, Michigan, Minnesota, Missouri, New Hampshire and Maine, Pennsylvania, Vermont and New York; West Virginia, Wisconsin and for any decision of Region-wide Impact.

Journal/Sentinel, published daily in Milwaukee, Milwaukee County, Wisconsin.

National Forests

Allegheny National Forest, Pennsylvania

Forest Supervisor Decisions:

Warren Times Observer, Warren, Warren County, Pennsylvania

District Ranger Decisions:

Bradford District: Bradford Era, Bradford, McKean County, Pennsylvania

Marienville District: The Kane Republican, Kane, Pennsylvania

Chequamegon/Nicolet National Forest, Wisconsin

Forest Supervisor Decisions:

The Journal/Sentinel, published daily in Milwaukee, Milwaukee County, Wisconsin

District Ranger Decisions:

Eagle River/Florence District: The Daily News, published daily except Saturday, Rhinelander, Wisconsin

Great Divide District: The Daily Press, published daily in Ashland County, Ashland, Wisconsin

Medford/Park Falls District: The Star News published weekly in Medford, Taylor County, Wisconsin and The Park Falls Herald, published weekly in Park Falls, Price County, Wisconsin

Washburn District: The Daily Press, published daily in Ashland County, Ashland, Wisconsin

Lakewood/Laona District: The Daily News, published daily except Saturday, Rhinelander, Wisconsin

Chippewa National Forest, Minnesota

Forest Supervisor Decisions:

Bemidji Pioneer, published daily in Bemidji, Beltrami County, Minnesota

District Ranger Decisions:

Blackduck District: The American, published weekly in Blackduck, Beltrami County, Minnesota

Cass Lake District: The Cass Lake Times, published weekly in Cass Lake, Cass County, Minnesota

Deer River and Marcell Districts: The Western Itasca Review, published weekly in Deer River, Itasca County, Minnesota

Walker District: The Pilot/Independent, published weekly in Walker, Cass County, Minnesota

Green Mountain National Forest, Vermont

Forest Supervisor Dicisions:

The Rutland Herald, published daily in Rutland, Rutland County, Vermont

District Ranger Decisions:

The Rutland Herald, published daily in Rutland, Rutland County, Vermont is the formal newspaper of record for all district ranger decisions. Other newspapers listed are optional.

Manchester District: The Rutland Herald, published daily in Rutland, Rutland County, Vermont; all others optional, the Bennington Banner, published daily in Bennington, Bennington County, Vermont Manchester Journal, published weekly in Bennington County, Vermont and The Brattleboro Reformer, published daily in Brattleboro, Windham County, Vermont

Middlebury District: The Rutland Herald, published daily in Rutland, Rutland County, Vermont; All others optional, The Addison County Independent, published twice weekly in Middlebury, Addison County, Vermont

Rochester District: The Rutland Herald, published daily in Rutland, Rutland County, Vermont; All others optional, The Burlington Free Pass, published daily in Burlington, Chittenden County, Vermont; The Valley Reporter, published weekly in Washington County, Vermont and The Randolph Herald, published weekly in Orange County, Vermont

Finger Lakes National Forest, New York

Forest Supervisor Decisions:

The Ithaca Journal, published daily in Ithaca, Tompkins County, New York

District Ranger Decisions:

Hector District: The Ithaca Journal, published daily in Ithaca, Tompkins County, New York

Hiawatha National Forest, Michigan

Forest Supervisor Decisions:

The Daily Press, published daily in Escanaba, Delta County, Michigan

District Ranger Decisions:

Rapid River District: The Daily Press, published daily in Escanaba, Delta County, Michigan

Manistique District: The Daily Press, published daily in Escanaba, Delta County, Michigan

Munising District: The Mining Journal, published daily in Marquette, Marquette County, Michigan

Sault Ste. Marie District: The Evening News, published daily in Sault Ste. Marie

St. Ignace District: The Evening News, published daily in Sault Ste. Marie, Chippewa County, Michigan

Hoosier National Forest, Indiana

Forest Supervisor Decisions:

The Hoosier Times, published in Bloomington, Monroe County, and Bedford, Lawrence County, Indiana

District Ranger Decisions:

Brownstown District: The Hoosier Times, published in Bloomington, Monroe County, and Bedford, Lawrence County, Indiana

Tell City District: The Perry County News, published in Tell City, Perry County, Indiana

Huron-Manistee National Forest, Michigan

Note: 1st Newspaper listed is mandatory—others optional.

Forest Supervisor Decisions:

Cadillac News, published daily in Cadillac, Wexford, County, Michigan; Lake County Star, published weekly in Baldwin, Lake County, Michigan, Ludington Daily News, published daily in Ludington, Mason County, Michigan; Alcona County Review, published weekly in Harrisville, Alcona County, Michigan; Manistee News Advocate, published daily in Manistee, Manistee County, Michigan; Oscoda County Herald, published weekly in Mio, Osconda County, Michigan; Crawford County Avalanche, published weekly in Grayling, Crawford County, Michigan; Oscoda Press, published weekly in Oscoda, Iosoco County, Michigan; Fremont Times-Indicator, published weekly in Fremont, Newaygo County, Michigan; Oceana-Herald Journal, published weekly in Hart, Mason County, Michigan; Muskegon Chronicle, published in Muskegon, Muskegon County, Michigan; Grand Rapids Press, published daily in Grand Rapids, Kent County, Michigan and Big Rapids Pioneer, published daily in Big Rapids, Mecosta County, Michigan

District Ranger Decisions:

Baldwin District: Lake County Star, published weekly in Baldwin, Lake County, Michigan and Ludington Daily News, published daily in Ludington, Mason County, Michigan

Cadillac District: Cadillac News, published daily in Cadillac, Wexford County, Michigan

Harrisville District: Alcona County Review, published weekly in Harrisville, Alcona County, Michigan

Manistee District: Manistee News Advocate, published daily in Manistee, Manistee County, Michigan

Mio District: Oscoda County Herald, published weekly in Mio, Oscoda County, Michigan and Crawford County Avalanche, published weekly in Grayling, Crawford County, Michigan

Tawas District: Oscoda Press, published weekly in Oscoda, Iosco County, Michigan

White Cloud District: Fremont Times-Indicator, published weekly in Fremont, Newaygo County, Michigan and Oceana-Herald Journal, published weekly in Hart, Mason County, Michigan

Mark Twain National Forest, Missouri

Forest Supervisor Decisions:

Rolla Daily News, published in Rolla Phelps County, Missouri

District Ranger Decisions:

Ava/Cassville District: Springfield News Leader, published weekly in Springfield, Greene County, Missouri

Cedar Creek District: Fulton Sun, published daily in Fulton, Callaway County, Missouri

Doniphan District: Prospect News, published weekly in Doniphan, Ripley County, Missouri

Eleven Point District: Prospect News, published weekly in Doniphan, Ripley County, Missouri

Rolla District: Houston Herald, published weekly (Thursdays) in Houston, Texas County, Missouri

Houston District: Houston Herald, published weekly (Thursdays) in Houston, Texas County, Missouri

Poplar Bluff District: Daily American Republic, published daily in Poplar Bluff, Butler County, Missouri

Potosi District: The Independent-Journal, published Thursday in Potosi, Washington County, Missouri

Fredericktown District: The Democrat-News, published weekly in Fredericktown, Madison County, Missouri

Salem District: The Salem News, published Tuesday and Thursday in Salem, Dent County, Missouri

Willow Springs District: West Plains Daily Quill, published daily in West Plains, Howell County, Missouri

Midewin Tall Grass Prairie, Wilmington, Illinois

Prairie Supervisor Decisions:

The Herald News, published daily in Joliet, Illinois

Monongahela National Forest, Elkins, West Virginia

Forest Supervisor Decisions:

The Elkins Inter-Mountain, published daily in Elkins, Randolph County, WV

District Ranger Decisions:

Cheat-Potomac District: The Grant County Press, published weekly in Petersburg, Grant County WV

Gauley District: The Nicholas Chronicle, published weekly in Summersville, Nicholas County, WV

Greenbrier District: The Pocahontas Times, published weekly in Marlinton, Pocahontas County, WV

Marlinton-White Sulphur District: The Pocahontas Times, published weekly in Marlinton, Pocahontas County, WV

Ottawa National Forest, Michigan

Forest Supervisor Decisions:

The Ironwood Daily Globe, published in Ironwood, Gogebic County, Michigan and for those on the Iron River District, The Reporter, published in Iron River, Iron County, Michigan

District Ranger Decisions:

Bergland, Bessemer, Kenton, Ontonagon and Watersmeet Districts: The Ironwood Daily Globe, published in Ironwood, Gogebic County, Michigan

Iron River District: The Reporter, published in Iron River, Michigan, Iron County, Michigan

Shawnee National Forest, Illinois

Forest Supervisor Decisions:

Southern Illinoisan, published daily in Carbondale, Jackson County, Illinois

District Ranger Decisions:

Vienna-Elizabethtown, Jonesboro-Murphysboro Districts: Southern Illinoisan, published daily in Carbondale, Jackson County, Illinois

Superior National Forest, Minnesota

Forest Supervisor Decisions:

Duluth News-Tribune, published daily in Duluth, St. Louis County, Minnesota

District Ranger Decisions:

Gunflint District: Cook County News-Herald, published weekly in Grand Marais, Cook County, Minnesota

Kawishiwi District: Timberjay, published weekly in Ely, St. Louis County, Minnesota

LaCroix District: Mesabi Daily News, published daily in Virginia, St. Louis County, Minnesota

Laurentian District: Mesabi Daily News, published daily in Virginia, St. Louis County, Minnesota

Tofte District: Duluth News-Tribune, published daily in Duluth, St. Louis County, Minnesota

Wayne National Forest, Ohio

Forest Supervisor Decisions:

The Athens Messenger, published in Athens, Athens County, Ohio

Athens District: Athens Messenger, (same for Marietta Unit), published in Athens County, Ohio

Ironton District: The Ironton Tribune, published in Ironton, Lawrence County, Ohio

White Mountain National Forest, New Hampshire and Maine

Forest Supervisor Decisions:

The Union Leader, published daily in Manchester, County of Hillsborough, New Hampshire

Ammonoosuc District: The Union Leader, published daily in Manchester, County of Hillsborough, New Hampshire

Androscoggin District: The Union Leader, published daily in Manchester, County of Hillsborough, New Hampshire and published daily in the Lewis Sun-Journal, County of Androscoggin, Maine

Evans Notch District: The Lewiston Sun-Journal, published daily in Lewiston, County of Androscoggin, Maine

Pemigewasset District: The Union Leader, published daily in Manchester, County of Hillsborough, New Hampshire

Saco District: The Union Leader, published daily in Manchester, County of Hillsborough, New Hampshire and Lewiston Sun * * *

Dated: February 25, 2005.
Forrest L. Starkey,
Deputy Regional Forester.

[FR Doc. 05-4240 Filed 3-3-05; 8:45 am]

BILLING CODE 3410-11-M